DEPARTMENT OF HEALTH AND HUMAN SERVICES

Administration for Children and Families

Submission for OMB Review; Head Start Evaluation of a Trauma-Informed Care Program (New Collection)

AGENCY: Office of Head Start, Administration for Children and Families, HHS.

ACTION: Request for public comment.

SUMMARY: The Office of Head Start, Administration for Children and Families (ACF), is proposing to collect data for a new evaluation of a trauma-informed care program that will include a small randomized controlled trial across 10 sites within Head Start Region V. The goals of the project are to identify the implementation supports and methods needed to enable teachers to effectively implement Trauma-Informed Care in early care and education programs, and to evaluate its outcomes. Information collected will be used to inform ongoing training and technical assistance (TTA) work provided by the Head Start Centers, particularly decisions regarding allocation of TTA resources. More generally, results may inform OHS guidance around social-emotional programming.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: The National Center on Health, Behavioral Health, and Safety, in partnership with Child Trends and the Center for Childhood Resilience at the Anne & Robert H. Lurie Children's Hospital of Chicago (Lurie), will conduct information collection activities across 10 sites within Head Start Region V as part of a small randomized controlled trial of the Ready to Learn through Relationships (RLR) program, a trauma-informed Framework and Toolkit designed to promote resilience in young children. In this evaluation, sites will be matched on a number of factors that may be related to implementation and randomized to either a low- or high-intensity TTA condition. The low-intensity condition will receive 4 hours of training, a “toolkit” of activity-based handouts, and access to virtual TA office hours. The high-intensity condition will include 4 hours of additional training on use of the toolkit modules, 6 hours of implementation support, and monthly classroom coaching.

Region V Head Start programs that choose to voluntarily participate in the RLR program will be asked to complete a number of implementation and outcomes measures and participate in other evaluation activities. Data collection will involve virtual semi-structured interviews and focus groups at the end of the evaluation period, web-based surveys (pre and post), a monthly web-based log of coaching activities completed, and repeated teacher reports of practices throughout the day on a mobile app during 5 weeks across the school year.

The information to be collected focuses on teacher practices for supporting children's social-emotional development and on training and implementation factors that may enhance these practices, which is directly relevant to Head Start's mission. Information obtained will be shared with Regional TTA providers and site administrators to inform their ongoing and future TTA work. More specifically, results of the evaluation will identify the extent to which more intensive TTA with ongoing coaching and on-site expert consultation enhances teacher practice beyond a lower-intensity TTA approach. Additionally, data are expected to identify implementation factors that may enhance outcomes at both the level of the teacher and Head Start Centers.

Respondents: All early childhood centers in Head Start Region V that meet inclusion criteria will be invited to submit application forms to participate in the evaluation, and approximately 10 centers will be selected. Within each center (or site), we anticipate there will be three classrooms of 3-5 year olds. Participants at each center will consist of 7 or 8 individuals (e.g., directors, mental health and behavior consultants, lead and assistant teachers, and coaches), for a total of 75 individuals across all centers or sites.

Annual Burden Estimates
Instrument | Total number of respondents | Total number of responses per respondent | Average burden hours per response | Total/annual burden hours
Trauma-Informed System Change Instrument (TISCI) Questionnaire (all site staff) | 75 | 2 | 0.17 | 26
Attitudes Related to Trauma-Informed Care (ARTIC) Questionnaire (all site staff) | 75 | 2 | 0.25 | 38
Site Application Form (site administrators) | 20 | 1 | 1 | 20
Site Administrator Interview | 10 | 1 | 1 | 10
Coach/Teacher Background Form | 50 | 1 | 0.10 | 5
Coaching Logs | 20 | 14 | 0.25 | 70
Coach Satisfaction Survey | 20 | 1 | 0.25 | 5
Coach Interview | 20 | 1 | 1 | 20
Professional Self-Care Scale (PSCS)—teachers | 30 | 2 | 0.10 | 6
Ecological Momentary Assessment (EMA) Survey—teachers | 30 | 100 | 0.07 | 210
Teacher Satisfaction Survey | 30 | 1 | 0.25 | 8
Teacher Focus Group | 15 | 1 | 1 | 15

Estimated Total Annual Burden Hours: 433.

Authority: Head Start Act Sec. 648.

Mary B. Jones,
ACF/OPRE Certifying Officer.

[FR Doc. 2021-25065 Filed 11-16-21; 8:45 am]

BILLING CODE 4184-40-P